NUCLEAR REGULATORY COMMISSION

[NRC-2020-0259]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from October 16, 2020, to November 12, 2020. The last notice was published on November 3, 2020.

DATES: Comments must be filed by December 31, 2020. A request for a hearing or a petition for leave to intervene must be filed by February 1, 2021.

ADDRESSES: You may submit comments by any of the following methods; however, the NRC encourages electronic comment submission through the Federal Rulemaking website:

• Federal Rulemaking Website: Federal Rulemaking Website: Go to https://www.regulations.gov and search for Docket ID NRC-2020-0259. Address questions about NRC Docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Shirley Rohrer, Office of Nuclear Reactor Regulation, telephone: 301-415-5411, email: Shirley.Rohrer@nrc.gov, U.S. Nuclear Regulatory Commission, Washington, DC 20555-0001.

SUPPLEMENTARY INFORMATION:

I. Obtaining Information and Submitting Comments

A. Obtaining Information

Please refer to Docket ID NRC-2020-0259, facility name, unit number(s), docket number(s), application date, and subject when contacting the NRC about the availability of information for this action. You may obtain publicly available information related to this action by any of the following methods:

• Federal Rulemaking Website: Go to https://www.regulations.gov and search for Docket ID NRC-2020-0259.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• Attention: The PDR, where you may examine and order copies of public documents, is currently closed. You may submit your request to the PDR via email at PDR.Resource@nrc.gov or call 1-800-397-4209 between 8:00 a.m. and 4:00 p.m. (EST), Monday through Friday, except Federal holidays.

B. Submitting Comments

The NRC encourages electronic comment submission through the Federal Rulemaking website (https://www.regulations.gov). Please include Docket ID NRC-2020-0259, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensees' analyses provided, consistent with title 10 of the Code of Federal Regulations (10 CFR) section 50.91, are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d), the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The table below provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Arizona Public Service Company, et al; Palo Verde Nuclear Generating Station, Units 1, 2, and 3; Maricopa County, AZ
Docket No(s) | 50-528, 50-529, 50-530.
Application date | October 8, 2020.
ADAMS Accession No | ML20282A953.
Location in Application of NSHC | Pages 2-4 of the Enclosure.
Brief Description of Amendment(s) | The proposed amendments would revise the Technical Specifications (TSs) to adopt Technical Specifications Task Force (TSTF) Traveler TSTF-501, “Relocate Stored Fuel Oil and Lube Oil Volume Values to Licensee Control,” Revision 1 (ADAMS Accession Nos. ML090510686 and ML100850094), for Palo Verde Nuclear Generating Station, Units 1, 2, and 3 (Palo Verde). The amendments would revise Palo Verde TS 3.8.3, “Diesel Fuel Oil, Lube Oil, and Starting Air,” by removing the current stored diesel fuel oil and lube oil numerical volume requirements from the TSs. The TSs would be modified so that the stored diesel fuel oil and lube oil inventory would require that a 7-day supply be available for each diesel generator. Conditions A and B in the Action table of TS 3.8.3 and Surveillance Requirements 3.8.3.1 and 3.8.3.2 would be revised to reflect the above change. This change is consistent with TSTF-501, Revision 1. The availability of this TS improvement was announced in the Federal Register on May 26, 2010 (75 FR 29588), as part of the consolidated line item improvement process. The proposed change is also consistent with an NRC clarification letter to the TSTF dated April 3, 2014 (ADAMS Accession No. ML14084A512).
Proposed Determination | NSHC.
Name of Attorney for Licensee, Mailing Address | Michael G. Green, Associate General Counsel, Nuclear and Environmental, Pinnacle West Capital Corporation, P.O. Box 52034, MS 7602, Phoenix, AZ 85072-2034.
NRC Project Manager, Telephone Number | Siva Lingam, 301-415-1564.
Duke Energy Progress, LLC; Brunswick Steam Electric Plant, Units 1 and 2; Brunswick County, NC
Docket No(s) | 50-324, 50-325.
Application date | September 24, 2020.
ADAMS Accession No | ML20272A091.
Location in Application of NSHC | Page 5 of Enclosure 1.
Brief Description of Amendment(s) | The amendment would adopt Technical Specification Task Force (TSTF) Traveler TSTF-582, “Reactor Pressure Vessel Water Inventory Control (RPV WIC) Enhancements.” The Technical Specifications related to RPV WIC are revised to incorporate operating experience and to correct errors and omissions that were incorporated into the plant TS when adopting TSTF-542, Revision 2, “Reactor Pressure Vessel Water Inventory Control.”
Proposed Determination | NSHC.
Name of Attorney for Licensee, Mailing Address | Kathryn B. Nolan, Deputy General Counsel, Duke Energy Corporation, 550 South Tryon Street (DEC45A), Charlotte, NC 28202.
NRC Project Manager, Telephone Number | Andrew Hon, 301-415-8480.
Energy Harbor Nuclear Corp. and Energy Harbor Nuclear Generation LLC; Beaver Valley Power Station, Units 1 and 2; Beaver County, PA
Docket No(s) | 50-334, 50-412.
Application date | October 13, 2020.
ADAMS Accession No | ML20288A444.
Location in Application of NSHC | Pages 10-12 of the Enclosure.
Brief Description of Amendment(s) | The proposed amendments would correct non-conservative Technical Specification 3.7.4, “Atmospheric Dump Valves (ADVs),” by increasing the number of required operable Unit No. 1 atmospheric dump valve lines from three to four to ensure equipment operability requirements are consistent with plant operation and safety analyses.
Proposed Determination | NSHC.
Name of Attorney for Licensee, Mailing Address | Rick Giannantonio, General Counsel, Energy Harbor Nuclear Corp., Mail Stop A-GO-15, 76 South Main Street, Akron, OH 44308.
NRC Project Manager, Telephone Number | Jennifer Tobin, 301-415-2328.
Energy Northwest; Columbia Generating Station; Benton County, WA
Docket No(s) | 50-397.
Application date | September 24, 2020.
ADAMS Accession No | ML20268B348.
Location in Application of NSHC | Pages 6-9 of the Enclosure.
Brief Description of Amendment(s) | The proposed amendment would revise technical specifications (TSs) to adopt Technical Specifications Task Force (TSTF)-582, “RPV [Reactor Pressure Vessel] WIC [Water Inventory Control] Enhancements.” The TSs related to RPV WIC would be revised to incorporate operating experience and to correct errors and omissions in TSTF-542, Revision 2, “Reactor Pressure Vessel Water Inventory Control.” Additionally, the proposed amendment would remove an expired note associated with the completion time of Required Action 3.5.1.A.1.
Proposed Determination | NSHC.
Name of Attorney for Licensee, Mailing Address | Kathleen Galioto, Assistant General Counsel, Energy Northwest, MD PE13, P.O. Box 968, Richland, WA 99352.
NRC Project Manager, Telephone Number | Mahesh Chawla, 301-415-8371.
Entergy Operations, Inc.; Arkansas Nuclear One, Unit 2; Pope County, AR
Docket No(s) | 50-368.
Application date | August 25, 2020.
ADAMS Accession No | ML20238C004.
Location in Application of NSHC | Pages 19-20 of the Enclosure.
Brief Description of Amendment(s) | The proposed amendment would modify the Arkansas Nuclear One, Unit 2 (ANO-2) Renewed Facility Operating License NPF-6 Technical Specifications (TSs). Specifically, the proposed amendment would modify the loss of voltage relay allowable values contained in ANO-2 TS 3.3.2.1, “Engineered Safety Feature Actuation System Instrumentation,” Table 3.3-4, Functional Unit 7.a, “4.16 kv [kilovolt] Emergency Bus Undervoltage.” The proposed amendment would also correct an error in Table 3.3-3 of ANO-2 TS 3.3.2.1.
Proposed Determination | NSHC.
Name of Attorney for Licensee, Mailing Address | Anna Vinson Jones, Senior Counsel, Entergy Services, Inc.,101 Constitution Avenue, NW Suite 200 East, Washington, DC 20001.
NRC Project Manager, Telephone Number | Thomas Wengert, 301-415-4037.
Entergy Operations, Inc.; Arkansas Nuclear One, Unit 2; Pope County, AR
Docket No(s) | 50-368.
Application date | September 24, 2020.
ADAMS Accession No | ML20268B898.
Location in Application of NSHC | Pages 3-4 of the Enclosure.
Brief Description of Amendment(s) | The proposed amendment would adopt Technical Specifications Task Force (TSTF) Traveler TSTF-569, “Revise Response Time Testing Definition,” into the Arkansas Nuclear One, Unit 2 Technical Specifications (TSs). The proposed amendment would revise the TS Definitions for Engineered Safety Feature Response Time and Reactor Trip System Response Time.
Proposed Determination | NSHC.
Name of Attorney for Licensee, Mailing Address | Anna Vinson Jones, Senior Counsel, Entergy Services, Inc.,101 Constitution Avenue, NW, Suite 200 East, Washington, DC 20001.
NRC Project Manager, Telephone Number | Thomas Wengert, 301-415-4037.
Exelon Generation Company, LLC; Byron Station, Unit Nos. 1 and 2; Ogle County, IL
Docket No(s) | 50-454, 50-455.
Application date | September 24, 2020.
ADAMS Accession No | ML20269A401.
Location in Application of NSHC | Pages 15-17 of Attachment 1.
Brief Description of Amendment(s) | The amendments would change the organization, staffing, and training requirements contained in Section 5.0, “Administrative Controls,” of the technical specifications for use when the units are permanently defueled and defines two new positions for Certified Fuel Handler and Non-Certified Operator in Section 1.1, “Definitions.” The proposed amendments also support implementation of the Certified Fuel Handler Training and Retraining Program that was submitted to the NRC on September 24, 2020 (ADAMS Accession No. ML20269A233).
Proposed Determination | NSHC.
Name of Attorney for Licensee, Mailing Address | Tamra Domeyer, Associate General Counsel, Exelon Generation Company, LLC, 4300 Winfield Road, Warrenville, IL 60555.
NRC Project Manager, Telephone Number | Joel Wiebe, 301-415-6606.
Exelon Generation Company, LLC; LaSalle County Station, Units 1 and 2; LaSalle County, IL
Docket No(s) | 50-373, 50-374.
Application date | July 17, 2020, as supplemented by letters dated September 11, 2020, and October 22, 2020.
ADAMS Accession No | ML20204A775, ML20259A454, and ML20296A616.
Location in Application of NSHC | Pages 11-14 of Attachment 1.
Brief Description of Amendment(s) | The proposed amendment would modify technical specifications (TS) requirements in TS 3.7.3, “Ultimate Heat Sink (UHS),” as follows: (1) TS 3.7.3, Condition A, would be modified to remove reference to UHS bottom elevation limit; (2) TS 3.7.3, Condition B, would be deleted; (3) TS Figure 3.7.3-1 diurnal curve would be modified; (4) Surveillance Requirement (SR) 3.7.3.1 would be modified to correct a discrepancy in the TS and allow proper application of TS 3.7.3; (5) Sedimentation Level in SR 3.7.3.2 would be modified from 18 inches to 6 inches; and (6) SR 3.7.3.3 would be deleted.
Proposed Determination | NSHC.
Name of Attorney for Licensee, Mailing Address | Tamra Domeyer, Associate General Counsel, Exelon Generation Company, LLC, 4300 Winfield Road, Warrenville, IL 60555.
NRC Project Manager, Telephone Number | Bhalchandra Vaidya, 301-415-3308.
Exelon Generation Company, LLC; Limerick Generating Station, Units 1 and 2; Montgomery County, PA
Docket No(s) | 50-352, 50-353.
Application date | September 29, 2020.
ADAMS Accession No | ML20273A215.
Location in Application of NSHC | Pages 7-9 of Attachment 1.
Brief Description of Amendment(s) | The proposed amendments would revise Technical Specifications 1.0, “Definitions”; ¾.4.6, “Pressure/Temperature Limits”; and 6.0, “Administrative Controls,” by replacing the existing reactor vessel heatup and cooldown rate limits and the pressure and temperature limit curves with references to the Pressure and Temperature Limits Report at Limerick Generating Station, Units 1 and 2.
Proposed Determination | NSHC.
Name of Attorney for Licensee, Mailing Address | Tamra Domeyer, Associate General Counsel, Exelon Generation Company, LLC, 4300 Winfield Road, Warrenville, IL 60555.
NRC Project Manager, Telephone Number | V. Sreenivas, 301-415-2597.
PSEG Nuclear LLC; Hope Creek Generating Station; Salem County, NJ; PSEG Nuclear LLC; Salem Nuclear Generating Station, Unit No. 1; Salem County, NJ
Docket No(s) | 50-354.
Application date | September 29, 2020.
ADAMS Accession No | ML20274A097.
Location in Application of NSHC | Pages 5-7 of Attachment 1.
Brief Description of Amendment(s) | The amendment would adopt Technical Specifications Task Force (TSTF) Traveler TSTF-582, “RPV [Reactor Pressure Vessel] WIC [Water Inventory Control] Enhancements.” The technical specifications related to reactor pressure vessel water inventory control would be revised to incorporate operating experience and to correct errors and omissions in TSTF-542, Revision 2, “Reactor Pressure Vessel Water Inventory Control.”
Proposed Determination | NSHC.
Name of Attorney for Licensee, Mailing Address | Steven Fleischer, PSEG Services Corporation, 80 Park Plaza, T-5, Newark, NJ 07102.
NRC Project Manager, Telephone Number | James Kim, 301-415-4125.
R.E. Ginna Nuclear Power Plant, LLC and Exelon Generation Company, LLC; R. E. Ginna Nuclear Power Plant; Wayne County, NY
Docket No(s) | 50-244.
Application date | September 21, 2020.
ADAMS Accession No | ML20265A198.
Location in Application of NSHC | Section 4.3 of the Enclosure (no page numbers available).
Brief Description of Amendment(s) | The amendment would change the Technical Specification 5.5.8, “Steam Generator (SG) Program,” required steam generator tube inspection frequency. This would be a one-time change to modify the steam generator inspection frequency from the current wording: “No steam generator shall operate more than 72 effective full power months or three refueling outages (whichever is less) without being inspected” to add the phrase ” with the exception that each steam generator is to be inspected during the fourth refueling outage, in G1R44, following inspections that were completed in refueling outage G1R40.”
Proposed Determination | NSHC.
Name of Attorney for Licensee, Mailing Address | Tamra Domeyer, Associate General Counsel, Exelon Generation Company, LLC, 4300 Winfield Road, Warrenville, IL 60555.
NRC Project Manager, Telephone Number | V. Sreenivas, 301-415-2597.
Tennessee Valley Authority; Watts Bar Nuclear Plant, Unit 2; Rhea County, TN; Tennessee Valley Authority; Watts Bar Nuclear Plant, Units 1 and 2; Rhea County, TN
Docket No(s) | 50-390, 50-391.
Application date | August 27, 2020.
ADAMS Accession No | ML20244A303.
Location in Application of NSHC | Page 13 of the Enclosure.
Brief Description of Amendment(s) | The proposed amendments would revise Watts Bar Nuclear Plant, Units 1 and 2 Technical Specification 3.3.2, “ESFAS Instrumentation [engineered safety feature actuation system],” Table 3.3.2-1, to include the electric motor-driven standby main feedwater pump trip channel for the auxiliary feedwater auto-start logic and would add a new surveillance requirement.
Proposed Determination | NSHC.
Name of Attorney for Licensee, Mailing Address | Sherry Quirk, Executive VP and General Counsel, Tennessee Valley Authority, 400 West Summit Hill Drive, WT 6A, Knoxville, TN 37902.
NRC Project Manager, Telephone Number | Kimberly Green, 301-415-1627.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the table below. The safety evaluation will provide the ADAMS accession numbers for the application for amendment and the Federal Register citation for any environmental assessment. All of these items can be accessed as described in the “Obtaining Information and Submitting Comments” section of this document.

License Amendment Issuance(s)
Dominion Nuclear Connecticut, Inc.; Millstone Power Station, Unit No. 2; New London County, CT
Docket No(s) | 50-336.
Amendment Date | September 29, 2020.
ADAMS Accession No | ML20237H995.
Amendment No(s) | 341.
Brief Description of Amendment(s) | The amendment revised Millstone Power Station, Unit No. 2, Technical Specification 6.25, “Pre-Stressed Concrete Containment Tendon Surveillance Program,” to replace the reference to Regulatory Guide 1.35 with a reference to Section XI, Subsection IWL of the American Society of Mechanical Engineers Boiler and Pressure Vessel Code. Additionally, the amendment deleted the provisions of Surveillance Requirement 4.0.2 in Technical Specification 6.25.
Public Comments Received as to Proposed NSHC (Yes/No) | No.
Duke Energy Progress, LLC; H. B. Robinson Steam Electric Plant, Unit No. 2; Darlington County, SC
Docket No(s) | 50-261.
Amendment Date | August 21, 2020.
ADAMS Accession No | ML20093J098.
Amendment No(s) | 269.
Brief Description of Amendment(s) | This amendment modified Technical Specification (TS) 3.7.3, “Main Feedwater Isolation Valves, Main Feedwater Regulation Valves, and Bypass Valves,” to incorporate three new feedwater bypass isolation valves. This TS 3.7.3 change also revised the completion time for Required Action C.1 for an inoperable bypass valve to reflect the redundancy added to the configuration and to align with NUREG-1431, “Standard Technical Specifications, Westinghouse Plants.”
Public Comments Received as to Proposed NSHC (Yes/No) | No.
Duke Energy Progress, LLC; Shearon Harris Nuclear Power Plant, Unit 1; Wake and Chatham Counties, NC
Docket No(s) | 50-400.
Amendment Date | September 29, 2020.
ADAMS Accession No | ML20212L594.
Amendment No(s) | 179.
Brief Description of Amendment(s) | The amendment revised Technical Specification (TS) 2.1.1.a to add the departure from nucleate boiling ratio safety limit associated with the transition from the high thermal performance fuel to a fuel assembly design with characteristics similar to the GAIA fuel design using the ORFEO-GAIA correlation methodology. The amendment also added Appendix J for DPC-NE-2005-P, “Thermal-Hydraulic Statistical Core Design Methodology,” to address the applicability of the ORFEO-GAIA critical heat flux correlation methodology to a fuel assembly design with characteristics similar to the GAIA fuel design at Shearon Harris. The TSs also were revised with minor formatting editorial adjustments to the impacted pages.
Public Comments Received as to Proposed NSHC (Yes/No) | No.
Energy Harbor Nuclear Corp. and Energy Harbor Nuclear Generation LLC; Davis-Besse Nuclear Power Station, Unit 1; Ottawa County, OH
Docket No(s) | 50-346.
Amendment Date | November 3, 2020.
ADAMS Accession No | ML20280A827.
Amendment No(s) | 301.
Brief Description of Amendment(s) | The amendment revised the Davis-Besse technical specifications by relocating specific surveillance frequencies to a licensee-controlled program. The changes are based on Technical Specifications Task Force (TSTF) Traveler TSTF-425, Revision 3, “Relocate Surveillance Frequencies to Licensee Control—RITSTF Initiative 5b” (ADAMS Package Accession No. ML090850642).
Public Comments Received as to Proposed NSHC (Yes/No) | No.
Entergy Operations, Inc.; Arkansas Nuclear One, Unit 2; Pope County, AR
Docket No(s) | 50-368.
Amendment Date | October 30, 2020.
ADAMS Accession No | ML20240A280.
Amendment No(s) | 322.
Brief Description of Amendment(s) | The amendment modified multiple technical specifications (TSs) for Arkansas Nuclear One, Unit 2, to address non-conservative TS Applicability statements associated with the movement of fuel assemblies. The amendment also modified these TSs and related TSs to gain greater consistency with NUREG-1432, Revision 4, “Standard Technical Specifications for Combustion Engineering Plants.”
Public Comments Received as to Proposed NSHC (Yes/No) | No.
Entergy Operations, Inc.; Waterford Steam Electric Station, Unit 3; St. Charles Parish, LA
Docket No(s) | 50-382.
Amendment Date | October 20, 2020.
ADAMS Accession No | ML20280A329.
Amendment No(s) | 258.
Brief Description of Amendment(s) | The amendment revised various surveillance requirements (SRs) in Waterford Steam Electric Station, Unit 3 Technical Specification ¾.8.1, “A.C. [Alternating Current] Sources—Operating,” by correcting the SRs' frequency and voltage values to ensure that the emergency diesel generators are capable of supplying power to the required loads.
Public Comments Received as to Proposed NSHC (Yes/No) | No.
Exelon Generation Company, LLC; Calvert Cliffs Nuclear Power Plant, Unit 1; Calvert County, MD; Exelon Generation Company, LLC; Calvert Cliffs Nuclear Power Plant, Unit 2; Calvert County, MD
Docket No(s) | 50-317, 50-318.
Amendment Date | November 6, 2020.
ADAMS Accession No | ML20273A088.
Amendment No(s) | 338 (Unit 1) and 316 (Unit 2).
Brief Description of Amendment(s) | These amendments revised certain frequency and voltage acceptance criteria for steady-state emergency diesel generator surveillance testing in Calvert Cliffs Technical Specification 3.8.1, “AC [Alternating Current] Sources—Operating.”
Public Comments Received as to Proposed NSHC (Yes/No) | No.
Exelon Generation Company, LLC; Dresden Nuclear Power Station, Units 2 and 3; Grundy County, IL
Docket No(s) | 50-237, 50-249.
Amendment Date | October 23, 2020.
ADAMS Accession No | ML20265A240.
Amendment No(s) | 272 (Unit 1) and 265 (Unit 2).
Brief Description of Amendment(s) | The amendments revised both the individual and the combined main steam isolation valve (MSIV) leakage rate limit for the four main steam lines in Technical Specification (TS) 3.6.1.3, “Primary Containment Isolation Valves (PCIVs),” Surveillance Requirement (SR) 3.6.1.3.10; added new TS 3.6.2.6, “Drywell Spray”; and revised TS 3.6.4.1, “Secondary Containment,” SR 3.6.4.1.1. Implementation of the amendments also included a revision to the Updated Final Safety Analysis Report.
Public Comments Received as to Proposed NSHC (Yes/No) | No.
Nebraska Public Power District; Cooper Nuclear Station; Nemaha County, NE
Docket No(s) | 50-298.
Amendment Date | October 22, 2020.
ADAMS Accession No | ML20282A176.
Amendment No(s) | 267.
Brief Description of Amendment(s) | The amendment adopted Technical Specifications Task Force (TSTF) Traveler TSTF-529, Revision 4, “Clarify Use and Application Rules.” The amendment modified technical specification (TS) requirements in TS Sections 1.3 and 3 .0 regarding limiting condition for operation and surveillance requirement usage.
Public Comments Received as to Proposed NSHC (Yes/No) | No.
Nine Mile Point Nuclear Station, LLC and Exelon Generation Company, LLC; Nine Mile Point Nuclear Station, Unit 2; Oswego County, NY
Docket No(s). | 50-410.
Amendment Date | October 20, 2020.
ADAMS Accession No | ML20241A190.
Amendment No(s) | 182.
Brief Description of Amendment(s) | The amendment revised the Nine Mile Point Nuclear Station, Unit 2, alternative source term loss-of-coolant accident radiological analysis, combined the delayed drywell leakage and drywell leakage surveillance requirements, and changed the allowable main steam isolation valve leakage rate.
Public Comments Received as to Proposed NSHC (Yes/No) | No.
Northern States Power Company—Minnesota; Prairie Island Nuclear Generating Plant, Unit Nos. 1 and 2; Goodhue County, MN
Docket No(s) | 50-282, 50-306.
Amendment Date | October 2, 2020.
ADAMS Accession No | ML20217L185.
Amendment No(s) | 232 (Unit 1) and 220 (Unit 2).
Brief Description of Amendment(s) | The amendments revised Technical Specification 5.5.14, “Containment Leakage Rate Testing Program,” to increase the containment integrated leakage rate test program Type A test interval from 10 to 15 years and extend the containment isolation valve Type C leakage rate test frequency from 60 to up to 75 months.
Public Comments Received as to Proposed NSHC (Yes/No) | No.
PSEG Nuclear LLC; Hope Creek Generating Station; Salem County, NJ
Docket No(s) | 50-354.
Amendment Date | November 9, 2020.
ADAMS Accession No | ML20281A613.
Amendment No(s) | 225.
Brief Description of Amendment(s) | The amendment revised Technical Specification 3.6.2.3, “Suppression Pool Cooling,” to modify the action for one inoperable loop to change the allowed outage time from 72 hours to 7 days and to modify the action for both loops inoperable to add an 8-hour allowed outage time in accordance with Technical Specification Task Force (TSTF) Traveler TSTF-230, Revision 1, “Add New Condition B to LCO [Limiting Condition for Operation] 3.6.2.3, `RHR [Residual Heat Removal] Suppression Pool Cooling.'”
Public Comments Received as to Proposed NSHC (Yes/No) | No.
Southern Nuclear Operating Company, Inc.; Vogtle Electric Generating Plant, Unit 3; Burke County, GA; Southern Nuclear Operating Company, Inc.; Vogtle Electric Generating Plant, Unit 4; Burke County, GA
Docket No(s) | 52-025, 52-026.
Amendment Date | October 14, 2020.
ADAMS Accession No | ML20247J442.
Amendment No(s) | 185 (Unit 3) and 183 (Unit 4).
Brief Description of Amendment(s) | The amendments authorize changes to the Updated Final Safety Analysis Report in the form of departures from the incorporated plant-specific Design Control Document Tier 2 information and involves changes to the plant-specific Technical Specifications (TS). Specifically, the proposed changes would revise the upper limit of the Core Makeup Tank (CMT) boron concentration TS Surveillance Requirement (SR), the mass of trisodium phosphate required by TS Limiting Condition for Operation and associated SR, and the frequency of performance of the CMT boron concentration TS SR.
Public Comments Received as to Proposed NSHC (Yes/No) | No.
Tennessee Valley Authority; Watts Bar Nuclear Plant, Unit 2; Rhea County, TN
Docket No(s) | 50-391.
Amendment Date | October 21, 2020.
ADAMS Accession No | ML20226A444.
Amendment No(s) | 42.
Brief Description of Amendment(s) | The amendment increased the authorized reactor core power level by approximately 1.4 percent rated thermal power from 3411 megawatts thermal (MWt) to 3459 MWt, based on the use of the existing Caldon Leading Edge Flow Meter (LEFM) CheckPlus System, and made a conforming change to operating license condition 2.C.(1). The amendment also revised Technical Specification 5.9.5, “Core Operating Limits Report (COLR),” to allow that 100.6 percent rated thermal power may be used only when the feedwater flow measurement is provided by the LEFM as described in the NRC-approved Caldon topical reports for LEFMs.
Public Comments Received as to Proposed NSHC (Yes/No) | No.
Tennessee Valley Authority; Watts Bar Nuclear Plant, Units 1 and 2; Rhea County, TN
Docket No(s). | 50-390, 50-391.
Amendment Date | October 28, 2020.
ADAMS Accession No | ML20239A791.
Amendment No(s) | 137 (Unit 1) and 43 (Unit 2).
Brief Description of Amendment(s) | The amendments revised certain Technical Specification Surveillance Requirements (SRs) to add exceptions that consider the SR to be met when automatic valves or dampers are locked, sealed, or otherwise secured in the actuated position, consistent with Technical Specification Task Force Traveler 541, “Add Exceptions to Surveillance Requirements for Valves and Dampers Locked in the Actuated Position.”
Public Comments Received as to Proposed NSHC (Yes/No) | No.
Union Electric Company; Callaway Plant, Unit No. 1; Callaway County, MO
Docket No(s) | 50-483.
Amendment Date | November 3, 2020.
ADAMS Accession No | ML20218A410.
Amendment No(s) | 224.
Brief Description of Amendment(s) | The amendment revised the license condition in the Callaway Plant, Unit No. 1 Renewed Facility Operating License associated with its Fire Protection Program, which is authorized under 10 CFR 50.48(c), “National Fire Protection Association (NFPA) Standard 805.”
Public Comments Received as to Proposed NSHC (Yes/No) | No.
Union Electric Company; Callaway Plant, Unit No. 1; Callaway County, MO
Docket No(s). | 50-483.
Amendment Date | October 16, 2020.
ADAMS Accession No | ML20246G570.
Amendment No(s) | 223.
Brief Description of Amendment(s) | The amendment revised Technical Specification 5.5.9, “Steam Generator (SG) Program,” paragraph d.2 to allow a one-time deferral of the steam generator tube inspections. The proposed changes were submitted in response to social distancing recommendations provided by the Centers for Disease Control and Prevention, which have been issued as a defensive measure against the spread of the Coronavirus Disease 2019.
Public Comments Received as to Proposed NSHC (Yes/No) | No.
Virginia Electric and Power Company, Dominion Nuclear Company; North Anna Power Station, Units 1 and 2; Louisa County, VA
Docket No(s) | 50-338, 50-339.
Amendment Date | October 29, 2020.
ADAMS Accession No | ML20302A179.
Amendment No(s) | 286 (Unit 1) and 269 (Unit 2).
Brief Description of Amendment(s) | The amendment added Westinghouse Topical Report WCAP-16996-P-A, “Realistic LOCA Evaluation Methodology Applied to the Full Spectrum of Break Sizes (FULL SPECTRUM LOCA Methodology,” to the list of approved analytical methods used to determine the core operating limits as listed in TS 5.6.5, “Core Operating Limits Report (COLR).”
Public Comments Received as to Proposed NSHC (Yes/No) | No.
Virginia Electric and Power Company; Surry Power Station, Unit Nos. 1 and 2; Surry County, VA
Docket No(s) | 50-280, 50-281.
Amendment Date | October 28, 2020.
ADAMS Accession No | ML20301A452.
Amendment No(s) | 300 (Unit 1) and 300 (Unit 2).
Brief Description of Amendment(s) | The amendments revised TS 6.2.C, “Core Operating Limits Report,” to add the Westinghouse Topical Report WCAP-16996-P-A, Revision 1, “Realistic LOCA [Loss of Coolant Accident] Evaluation Methodology Applied to the Full Spectrum of Break Sizes (FSLOCATM EM),” to the list of methodologies approved for reference in the Core Operating Limits Report (COLR).
Public Comments Received as to Proposed NSHC (Yes/No) | No.

Dated: November 24, 2020.
For the Nuclear Regulatory Commission.
Gregory F. Suber,
Deputy Director, Division of Operating Reactor Licensing, Office of Nuclear Reactor Regulation.

[FR Doc. 2020-26309 Filed 11-30-20; 8:45 am]

BILLING CODE 7590-01-P